DEPARTMENT OF THE INTERIOR

Bureau of Indian Affairs

[245A2100DD/AAKC001030/A0A501010.999900]

Indian Gaming; Approval of Tribal-State Class III Gaming Compact Amendment Between the Tulalip Tribes of Washington and the State of Washington

AGENCY: Bureau of Indian Affairs, Interior.

ACTION: Notice.

SUMMARY: This notice publishes the approval of the Memorandum of Incorporation of Most Favored Nation Amendments to the Tribal-State Compact for Class III Gaming between the Tulalip Tribes of Washington and the State of Washington.

DATES: The Amendment takes effect on February 6, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment authorizes the Tribe to offer Electronic Table Games at the Tribe's class III gaming facilities, establishes limitations on wagers, credit, gaming stations, and player terminals, and increases contributions to problem gaming resources. Additionally, the Tribe agrees to establish education and awareness programs for problem gaming. The Amendment also makes minor adjustments to accepted forms of payment and allows the Tribe to increase its maximum wagers and purchase prices to match an increase in prices in the Washington State Lottery. The Amendment is approved.

Bryan Newland,
Assistant Secretary—Indian Affairs.

[FR Doc. 2024-02350 Filed 2-5-24; 8:45 am]

BILLING CODE 4337-15-P